DEPARTMENT OF TRANSPORTATION

Federal Aviation Administration

14 CFR Parts 415 and 417

[Docket No. FAA-2000-7953; Amdt. No(s). 415-6 and 417-5]

RIN 2120-AG37

Licensing and Safety Requirements for Launch; Technical Amendment

AGENCY: Federal Aviation Administration, DOT.

ACTION: Final rule; technical amendment.

SUMMARY: The FAA is publishing this action to correct minor, editorial errors in chapter III, parts 415 and 417. These errors occurred in the Licensing and Safety Requirements for Launch final rule, published in the Federal Register on August 25, 2006. That final rule amended the commercial space transportation regulations governing the launch of expendable launch vehicles to address licensing and safety requirements for a launch. In that final rule, the FAA inadvertently made minor errors, which this technical amendment corrects.

DATES: Effective August 30, 2016.

FOR FURTHER INFORMATION CONTACT: For questions concerning this action contact René Rey, Regulations and Analysis Division, AST-300, Federal Aviation Administration, 800 Independence Avenue SW., Washington, DC 20591; telephone (202) 267-7538; email Rene.Rey@faa.gov.

SUPPLEMENTARY INFORMATION:

Good Cause for Immediate Adoption Without Prior Notice

Section 553(b)(3)(B) of the Administrative Procedure Act (APA) (5 U.S.C. 551 et seq.) authorizes agencies to dispense with notice and comment procedures for rules when the agency for “good cause” finds that those procedures are “impracticable, unnecessary, or contrary to the public interest.” Under this section, an agency, upon finding good cause, may issue a final rule without seeking comment prior to the rulemaking.

Section 553(d)(3) of the Administrative Procedure Act requires that agencies publish a rule not less than 30 days before its effective date, except as otherwise provided by the agency for good cause found and published with the rule.

This document is correcting errors that are in 14 CFR 415.35, 415.37, 415.41, 415.55, 417.15, 417.107, 417.121, 417.231, 417.301, 417.303, 417.305, and Appendix A, Appendix E, and Appendix I to part 417. These corrections will not impose any additional restrictions on the persons affected by these regulations. Furthermore, any additional delay in making the regulations correct would be contrary to the public interest. Accordingly, the FAA finds that (i) public comment on these standards prior to promulgation is unnecessary, and (ii) good cause exists to make this rule effective in less than 30 days.

Background

On August 25, 2006, the FAA published a final rule entitled, “Licensing and Safety Requirements for Launch; Final Rule” (71 FR 50508).

In that final rule, the FAA amended commercial space transportation regulations governing the launch of expendable launch vehicles. That action was necessary to codify launch practices at Federal launch ranges and codify rules for launches from a non-Federal launch site. The intended effect of the action was to ensure that the public continued to be protected from the hazards of a launch from either a Federal launch range or a non-Federal launch site.

The final rule contains a more complete discussion of the rule and the events leading up to it.

Technical Amendment

The technical amendment makes the following corrections:

(1) In § 415.35(a), the reference to cc is changed to Ec.

(2) In § 415.37(a)(1), the reference to § 417.117(g) is changed to § 417.117(b)(3).

(3) In § 415.41, the reference to § 417.111(g) is changed to § 417.111(h).

(4) In § 415.55, the reference to § 415.79(a) is changed to § 417.17(b)(2).

(5) In § 417.15(b), the reference to § 405.1 is changed to § 401.5.

(6) In § 417.107(e)(2), the reference to § 417.113(b) is changed to § 417.113(c).

(7) In § 417.121(c), the reference to § 417.113(b) is changed to § 417.113(c).

(8) In § 417.231(a), the reference to § 417.113(b) is changed to § 417.113(c).

(9) In § 417.301(d)(1), duplicate sub-paragraph (1) is removed.

(10) In § 417.303(j), the reference to § 417.307(g) is changed to § 417.307(f).

(11) In § 417.305(c)(1), duplicate sub-paragraph (1) is removed.

(12) In Appendix A to part 417, section A417.29(b)(5), the reference to § 417.113(b) is changed to § 417.113(c).

(13) In Appendix E to part 417, section E417.19(e)(2)(vi), the reference to ±dB is changed to ±3 dB.

(14) In Appendix I to part 417, in the introductory paragraph to section I417.1, the reference to § 417.229 is changed to § 417.227.

(15) In Appendix I to part 417, section I417.5(a), the reference to § 417.113(b) is changed to § 417.113(c).

List of Subjects

14 CFR Part 415

Aviation safety, Environmental protection, Space transportation and exploration.

14 CFR Part 417

Aviation safety, Reporting and recordkeeping requirements, Rockets, Space transportation and exploration.

The Amendment

In consideration of the foregoing, the Federal Aviation Administration amends chapter III of title 14, Code of Federal Regulations as follows:

PART 415—LAUNCH LICENSE

1. The authority citation of part 415 continues to read as follows:

Authority: 51 U.S.C. 50901-50923.

§ 415.35 [Amended]

2. Amend § 415.35(a) by removing the reference to “cc” and adding in its place “Ec”.

§ 415.37 [Amended]

3. Amend § 415.37(a)(1) by removing the reference to “§ 417.117(g)” and adding in its place “§ 417.117(b)(3)”.

§ 415.41 [Amended]

4. Amend § 415.41 by removing the reference to “§ 417.111(g)” and adding in its place “§ 417.111(h)”.

§ 415.55 [Amended]

5. Amend § 415.55 by removing the reference to “§ 415.79(a)” and adding in its place “§ 417.17(b)(2)”.

PART 417—LAUNCH SAFETY

6. The authority citation for part 417 continues to read as follows:

Authority: 51 U.S.C. 50901-50923.

§ 417.15 [Amended]

7. Amend § 417.15(b) by removing the reference to “§ 405.1” and adding in its place “§ 401.5”.

§ 417.107 [Amended]

8. Amend § 417.107(e)(2) by removing the reference to “§ 417.113(b)” and adding in its place “§ 417.113(c)”.

§ 417.121 [Amended]

9. Amend § 417.121(c) by removing the reference to “§ 417.113(b)” and adding in its place “§ 417.113(c)”.

§ 417.231 [Amended]

10. Amend § 417.231(a) by removing the reference to “§ 417.113(b)” and adding in its place “§ 417.113(c)”.

§ 417.301 [Amended]

11. Amend § 417.301 by removing duplicate paragraph (d)(1).

§ 417.303 [Amended]

12. Amend § 417.303(j) by removing the reference to “§ 417.307(g)” and adding in its place “§ 417.307(f)”.

§ 417.305 [Amended]

13. Amend § 417.305 by removing duplicate paragraph (c)(1).

Appendix A to part 417 [Amended]

14. Amend section A417.29(b)(5) of Appendix A to part 417 by removing the reference to “§ 417.113(b)” and adding in its place “§ 417.113(c)”.

Appendix E to part 417 [Amended]

15. Amend section E417.19(e)(2)(vi) of Appendix E to part 417 by removing the reference to “±dB” and adding in its place “±3 dB”.

Appendix I to part 417 [Amended]

16. Amend Appendix I to part 417 by:

a. In section I417.1, removing the reference to “§ 417.229” and adding in its place “§ 417.227”.

b. In section I417.5(a), removing “§ 417.113(b)” and adding in its place “§ 417.113(c)”.

Issued in Washington, DC, on August 23, 2016.
Dale Bouffiou,
Acting Director, Office of Rulemaking.

[FR Doc. 2016-20813 Filed 8-29-16; 8:45 am]

BILLING CODE 4910-13-P